DEPARTMENT OF COMMERCE

National Oceanic and Atmospheric Administration

RIN 0648-XD322

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an Exempted Fishing Permit (EFP) application contains all of the required information and warrants further consideration. This EFP would allow two commercial fishing vessels to fish outside of the limited access scallop days-at-sea (DAS) program in support of scallop incidental mortality research conducted by the Coonamessett Farm Foundation. It would also allow the vessels to fish in the Eastern and Western Areas of the Nantucket Lightship Closed Area. Additionally, the EFP would exempt participating vessels from the crew size restriction and reporting requirements, and would allow vessels to temporarily possess various species of fish for sampling purposes only.

Regulations under the Magnuson-Stevens Fishery Conservation and Management Act require publication of this notification to provide interested parties the opportunity to comment on applications for proposed EFPs.

DATES: Comments must be received on or before July 2, 2014.

ADDRESSES: You may submit written comments by any of the following methods:

• EMail: nmfs.gar.efp@noaa.gov. Include in the subject line “Comments on Coonamessett 2014 Incidental Mortality EFP.”

• Mail: John K. Bullard, Regional Administrator, NMFS, Greater Atlantic Regional Fisheries Office, 55 Great Republic Drive, Gloucester, MA 01930. Mark the outside of the envelope “Comments on Coonamessett 2014 Incidental Mortality EFP.”

• Fax: (978) 281-9135.

FOR FURTHER INFORMATION CONTACT: Liz Sullivan, Fisheries Management Specialist, 978-282-8493, Liz.Sullivan@noaa.gov.

SUPPLEMENTARY INFORMATION: The Coonamessett Farm Foundation has been awarded a grant through the Atlantic sea scallop research set-aside program to conduct a project titled: “Estimating Incidental Mortality in the Sea Scallop Fishery.”

The project investigators have proposed to use a Remotely Operated Vehicle (ROV), dredge-mounted cameras, and a camera trolley to examine the dredge path of a 4.57-meter-wide Turtle Deflector Dredge to calculate incidental mortality of scallops. The researchers plan on conducting three trips, two in July and August 2014, and a third in July 2015, on two fishing vessels. Each trip will be five to six days-at-sea (DAS), with approximately 6 tows/day, for a total of approximately 30 tows per trip. The tows would be made on commercial scallop grounds in Southern New England, including the Eastern and Western portions of Nantucket Lightship Closed Area, where sector groundfish vessels have been given a FY2014 exemption to fish (see coordinates later in this preamble). This excludes the central portion, which is an Essential Fish Habitat closure area, 50 CFR 648.81(h)(vi). The paths would be made by a dredge equipped with forward facing cameras towed at commercial speed (4.5 knots) and would be 500 meters long, for a maximum duration of 30 minutes. Video data would be collected by the ROV in such a manner as to determine the quantity and condition of species left in the dredge path with the main focus being on sea scallops. Dredge catches would be examined to evaluate dredge efficiency, discard mortality, and meat losses associated with scallop condition and processing. Researchers expect to conduct at most one trip within portions of the Nantucket Lightship Closed Area, in order to examine an area with low fishing pressure. No catch would be retained for sale. All scallops and fish would be returned to the sea after video monitoring of the tow path is completed.

The applicant anticipates catching the following amount of fish on each trip:

Species | Estimated lbs in 30 tows
Sea scallop | 600
Yellowtail flounder | 150
Winter flounder | 150
Windowpane flounder | 150
Summer flounder | 150
Fourspot flounder | 150
American plaice | 75
Grey sole | 75
Haddock | 25
Atlantic cod | 25
Monkfish | 150
Spiny dogfish | 50
Barndoor skates | 100
Little skates | 500
Winter skates | 500

To conduct this study, Coonamessett Farm Foundation investigators submitted a complete EFP application on April 11, 2014, requesting an exemption allowing two commercial fishing vessels to fish outside of the limited access Atlantic sea scallop DAS regulations found at 50 CFR 648.53(b). In addition, the EFP would exempt participating vessels from the crew size regulations at 50 CFR 648.51(c); reporting requirements specified in 50 CFR 648.7(f); and regulations preventing fishing in the Nantucket Lightship Closed Area specified in 50 CFR 648.81(c) and 50 CFR 648.59(d).

The waters in the Eastern Area of the Nantucket Lightship Closed Area are defined by straight lines connecting the following points in the order stated here:

Point | N. lat. | W. long.
A | 40°50′ | 69°30′
B | 40°50′ | 69°00′
C | 40°20′ | 69°00′
D | 40°20′ | 69°30′
A | 40°50′ | 69°30′

The waters in the Western Area of the Nantucket Lightship Closed Area are defined by straight lines connecting the following points in the order stated here:

Point | N. lat. | W. long.
A | 40°50′ | 70°20′
B | 40°50′ | 70°00′
C | 40°20′ | 70°00′
D | 40°20′ | 70°20′
A | 40°50′ | 70°20′

As stated above, this excludes the central portion of the Nantucket Lightship Closed Area, which is an Essential Fish Habitat closure area. The EFP would also temporarily exempt participating vessels from possession limits and minimum size requirements specified in 50 CFR part 648, sub-sections B and D through O, for sampling purposes only. Any fishing activity conducted outside the scope of the exempted fishing activity would be prohibited.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: June 12, 2014.
Alan D. Risenhoover,
Director, Office of Sustainable Fisheries, National Marine Fisheries Service.

[FR Doc. 2014-14155 Filed 6-16-14; 8:45 am]

BILLING CODE 3510-22-P